DEPARTMENT OF TRANSPORTATION

Federal Highway Administration

Notice of Final Federal Agency Actions on Proposed Haines Highway Reconstruction Milepost 3.9 to Milepost 25.0 in Alaska

AGENCY: Federal Highway Administration (FHWA), DOT.

ACTION: Notice of limitation of claims for judicial review of actions by FHWA and other Federal agencies.

SUMMARY: This notice announces actions taken by FWHA that are final within the meaning of 23 U.S.C. 139(l)(1). The actions relate to the proposed Haines Highway Reconstruction in the Haines Borough in the State of Alaska. Those actions grant approvals for the project.

DATES: By this notice, FHWA is advising the public of final agency actions subject to 23 U.S.C. 139(l)(1). A claim seeking judicial review of FHWA actions on the highway project will be barred unless the claim is filed on or before March 20, 2017. If the Federal law that authorizes judicial review of a claim provides a time period of less than 150 days for filing such claim, then that shorter time period still applies.

FOR FURTHER INFORMATION CONTACT: Al Fletcher, Field Operations Engineer, Federal Highway Administration, Alaska Division, 709 West 9th Street, Room 851, Juneau, AK 99802, telephone (907) 586-7245; email: Al.Fletcher@dot.gov. The FHWA Alaska Division Office's normal business hours are 8:00 a.m. to 5:00 p.m. (Alaska Standard Time), Monday through Friday, except Federal holidays. You may also contact Greg Lockwood P.E., Project Manager, Alaska Department of Transportation, Southcoast Region, P.O. Box 112506, Juneau, AK 99811-2506, telephone (907) 465-2393; email: greg.lockwood@alaska.gov. The DOT&PF Southcoast Regions' normal business hours are 8:00 a.m. to 4:30 p.m. (Alaska Standard Time), Monday through Friday, except State and Federal holidays.

SUPPLEMENTARY INFORMATION: Notice is hereby given that FHWA has taken final agency action subject to 23 U.S.C. 139(l)(1) by issuing licenses, permits, and approvals for the Haines Highway Reconstruction Milepost 3.9 to Milepost 25.0 Project in the State of Alaska. The Haines Highway Reconstruction Milepost 3.9 to Milepost 25.0 Project proposes to upgrade the Haines Highway to current standards from Milepost (MP) 3.5 to 25.3 in Haines, Alaska.

The project includes the following components:

1. Improvements to Haines Highway. Specifically, realignment of sections of the highway and straightening some curves to meet 55 mile-per-hour design standards, with the exception of two curves. Widening the roadway shoulders to a continuous 6-foot width and providing minimum sight distance to meet design standards. Constructing drainage ditches and upgrading, replacing, and/or adding new culverts where appropriate. Repaving and restriping the roadway and adding new signage. Rehabilitating or relocating of driveways, turnout access points, and road intersections (including Chilkat Avenue, Klukwan) to meet design standards. Installing or upgrading of guardrails and other safety features along the highway, where needed. Modifying the Haines-Fairbanks Pipeline Gate Valve 4's surrounding concrete vault, to protect the gate valve and provide a safe road embankment. Relocating utilities, where required. Maintaining access to utilities not relocated.

2. Replacement of Chilkat River Bridge. Installation of a temporary bridge downstream to be used as a construction staging platform. Construction of a new bridge directly adjacent to, and downstream of, the existing bridge, with the same lane and shoulder widths as the revised proposed road. The new bridge would be constructed to meet the following criteria: A 55 mile-per-hour design speed, current seismic standards, and accommodation of freight vehicles carrying heavier loads than currently accommodated by the bridge, and consistency with the bridges constructed in the Haines Highway Milepost 24 to the border project. Removing existing bridge deck and rail; cutting and removing foundation structures, including remnant pilings from previous bridge structures.

3. Improvements for Highway Protection at Debris and Water Flood Flow Areas. Raising the grade of the highway 15 to 18 feet from its current elevation at Milepost 19 and Milepost 23. Installing of four to six larger-diameter culverts under the elevated highway, at each debris flow area (Milepost 19, Milepost 23).

4. Improvements for Recreational Access. Widening roadway shoulders from 2 feet to 6 feet, to improve safety for non-motorized users. Constructing parking area for access to the Mount Ripinski Trailhead. Improving surfacing and grading of turnouts within the right-of-way. Improving vehicle access to the Chilkat River recreational areas.

The actions by FHWA and the laws under which such actions were taken are described in the Haines Highway Reconstruction Milepost 3.9 to Milepost 25.0 Final Revised Environment Assessment (FREA), Finding of No Significant Impact (FONSI), and the Section 4(f) evaluations, issued on August 15, 2016, and in other documents in the project records. The FREA, FONSI, and Section 4(f) Evaluations, and other project records are available by contacting FHWA at the address provided above. The EA and Section 4(f) Evaluation and FONSI can be viewed and downloaded from the project Web site at http://dot.alaska.gov/sereg/projects/haines_hwy/documents.shtml or by contacting FHWA at the address provided above.

This notice applies to all FHWA decisions as of the issuance date of this notice and all laws under which such actions were taken. Laws generally applicable to such actions include but are not limited to:

• General: National Environmental Policy Act (NEPA) [42 U.S.C. 4321-4351; Federal-Aid Highway Act [23 U.S.C. 109].

• Wildlife: Fish and Wildlife Coordination Act [16 U.S.C. 661-667(d); Migratory Bird Treaty Act [16 U.S.C. 703-712], Magnuson-Stevens Fisheries Conservation and Management Act of 1976 [16 U.S.C. 1801, Bald and Golden Eagle Protection Act [16 U.S.C. 668-668c).

• Waters of the U.S.: Section 404 of the Clean Water Act [33 U.S.C. 1344].

• Cultural Resources: Section 106 of the National Historic Preservation Act of 1966, as amended [16 U.S.C. 470(f) et seq.]; Archaeological and Historic Preservation Act [16 U.S.C. 469-469(c)]; Archaeological Resources Protection Act of 1977 [16 U.S.C. 470(aa)-11].

• Section 4(f) of the USDOT Act [49 U.S.C. 1653(f)].

• Executive Orders: Executive Order 12898, Environmental Justice; Executive Order 11988, Floodplain Management; Executive Order 11990, Protection of Wetlands; Executive Order 13112, Invasive Species; Executive Order 13045, Protection of Children from Environmental Health Risks and Safety Risks; Executive Order 13007, Indian Sacred Sites; Executive Order 11593, Protection and Enhancement of the Cultural Environment; and Executive Order 13175, Consultation and Coordination with Indian Tribal Governments.

Authority: 23 U.S.C. 139(l)(1).

Issued on: October 12, 2016.
Sandra A. Garcia-Aline,
Division Administrator, Juneau, Alaska.

[FR Doc. 2016-25284 Filed 10-18-16; 8:45 am]

BILLING CODE 4910-RY-P